DEPARTMENT OF HEALTH AND HUMAN SERVICES

Health Resources and Services Administration

Advisory Committee on Heritable Disorders and Genetic Diseases in Newborns and Children; Notice of Inaugural Meeting

In accordance with section 10(a)(2) of the Federal Advisory Committee Act (Public Law 92-463), notice is hereby given that the following Committee will convene its inaugural meeting.

Name: Advisory Committee on Heritable Disorders and Genetic Diseases in Newborns and Children (ACHDGDNC).

Dates and Times: June 7, 2004, 9 a.m. to 5 p.m., June 8, 2004, 8:30 a.m. to 5 p.m.

Place: Ronald Reagan Building and International Trade Center, 1300 Pennsylvania Avenue, NW., Washington, DC 20004.

Status: The meeting will be open to the public with attendance limited to space availability.

Purpose: The Advisory Committee provides advice and recommendations concerning the grants and projects authorized under the Heritable Disorders Program and technical information to develop policies and priorities for this program that will enhance the ability of the State and local health agencies to provide for newborn and child screening, counseling and health care services for newborns and children having or at risk for heritable disorders. Specifically, the Committee shall advise and guide the Secretary regarding the most appropriate application of universal newborn screening tests, technologies, policies, guidelines and programs for effectively reducing morbidity and mortality in newborns and children having or at risk for heritable disorders.

Agenda: The first day will be devoted to presentations on and discussion of the status and future directions of newborn and child screening, counseling and health care services for newborns and children having or at risk for heritable disorders and relevant surrounding issues. The second day will involve deliberations aimed at formulating the ACHDGDNC issues agenda. Time will be provided each day for public comment.

Proposed agenda items are subject to change as priorities indicate.

For Further Information Contact: Individuals who wish to provide public comment; plan to attend the meeting and need special assistance, such as sign language interpretation or other reasonable accommodations; or are interested in obtaining a roster of members or other relevant information should write or contact Michele A. Lloyd-Puryear, M.D., Ph.D., Maternal and Child Health Bureau, Health Resources and Services Administration, Room 18-20, Parklawn Building, 5600 Fishers Lane, Rockville, Maryland 20857, Telephone (301) 443-1080.

Dated: April 6, 2004.
Tina M. Cheatham,
Director, Division of Policy Review and Coordination.

[FR Doc. 04-8390 Filed 4-13-04; 8:45 am]

BILLING CODE 4165-15-P